DEPARTMENT OF HOUSING AND URBAN DEVELOPMENT

[Docket No. 4800-FA-23]

Announcement of Funding Award—FY 2003 Healthy Homes Grant Program

AGENCY: Office of the Secretary—Office of Healthy Homes and Lead Hazard Control, HUD.

ACTION: Announcement of funding awards.

SUMMARY: In accordance with section 102(a)(4)(C) of the Department of Housing and Urban Development Reform Act of 1989, this announcement notifies the public of additional funding decisions made by the Department in a competition for funding under the Healthy Homes and Lead Technical Studies Program Notice of Funding Availability (NOFA). This announcement contains the name and address of the award recipient and the amount of award.

FOR FURTHER INFORMATION CONTACT: Peter J. Ashley, Department of Housing and Urban Development, Office of Healthy Homes Initiative and Lead Hazard Control, Room P3206, 451 Seventh Street, SW., Washington, DC, 20410, telephone (202) 755-1785, ext. 115. Hearing- and speech-impaired persons may access the number above via TTY by calling the toll free Federal Information Relay Service at 1-800-877-8339.

SUPPLEMENTARY INFORMATION: The authority for making funding available under the Healthy Homes and Lead Technical Studies Program NOFA is authorized under sections 1011(g)(1), 1011(o), 1051-1053 of the residential Lead Based Paint Hazard Reduction Act of 1992, which is Title X of the Housing and Community Development Act of 1992; sections 501 and 502 of the Housing and Urban Development Act of 1970; and the Consolidated Appropriations Resolution of 003, Pub. L. 108-7, signed February 20, 2003.

These awards were the result of a competition announced in a Federal Register NOFA published on April 25, 2003 (68 FR 21347). The purpose of the competition was to award grant funding of approximately $5,000,000 for grants and cooperative agreements for the Healthy Homes and Lead Technical Studies Programs. Applications were scored and selected on the basis of selection criteria contained in that Notice.

A total of $4,841,559 was awarded to eight grantees. In accordance with section 102(a)(4)(C) of the Department of Housing and Urban Development Reform Act of 1989 (103 Stat. 1987, 42 U.S.C. 3545), the Department is publishing the names, addresses, and amounts of this awards as follows:

Awardee | Address | Award Amount
Howard University | 600 W Street, NW., Washington, DC 20001 | $999,998
Xavier University | 1 Drexel Drive, New Orleans, LA 70125 | 693,635
Panhandle Health District | 114 W Riverside Kellogg, ID 83837 | 252,072
University of Illinois | 109 Coble Hall Champaign, IL 61820 | 249,999
University of Cincinnati | P.O. Box 670553 Cincinnati, OH 45267 | 233,420
Research Triangle | 3040 Cornwallis Road Research Triangle Park, NC 27709 | 403,163
University of Illinois | 801 South Wright Street, Champaign, ILL 61820 | 280,266
Georgia Tech | 505 Tenth Street, NW., Atlanta, GA 30332-0420 | 249,864
Tulane University | 1440 Canal Street, Suite 800, Box TW-43, New Orleans, LA | 854,909
University of Minnesota | 200 Oak Street, SE, Minneapolis, MN 55455-2070 | 624,233

(The Catalog of Federal Domestic Assistance number for this program is 14.902.)

Dated: November 5, 2003.
Joseph F. Smith,
Deputy Director, Office of Healthy Homes and Lead Hazard Control.

[FR Doc. 03-29328 Filed 11-24-03; 8:45 am]

BILLING CODE 4210-70-P